ENVIRONMENTAL PROTECTION AGENCY

[FRL-11549-01-R6]

Underground Injection Control Program; Hazardous Waste Injection Restrictions; Petition for Exemption Issuance—Class I Hazardous Waste Injection; Rubicon LLC, Geismar Louisiana Facility, Louisiana

AGENCY: Environmental Protection Agency (EPA).

ACTION: Notice of a final decision on a no migration petition issuance.

SUMMARY: Notice is hereby given that an issuance of an exemption to the land disposal restrictions, under the 1984 Hazardous and Solid Waste Amendments to the Resource Conservation and Recovery Act, is granted to Rubicon LLC for one Class I hazardous waste injection well at the Geismar Louisiana Facility located in Geismar, Louisiana.

DATES: This action was effective as of November 6, 2023.

ADDRESSES: Copies of the petition issuance and pertinent information relating thereto are on file at the following location: Environmental Protection Agency (EPA), Region 6, Water Division, Safe Drinking Water Branch (6WD-D), 1201 Elm Street, Suite 500, Dallas, Texas 75270-2102.

FOR FURTHER INFORMATION CONTACT: Ian Ussery, Physical Scientist, Ground Water/UIC Section, EPA—Region 6, telephone (214) 665-6639.

SUPPLEMENTARY INFORMATION: As required by 40 CFR part 148, Rubicon LLC adequately demonstrated to the EPA by the petition issuance application and supporting documentation that, to a reasonable degree of certainty, there will be no migration of hazardous constituents from the injection zone for as long as the waste remains hazardous. This final decision allows the underground injection by the Geismar Louisiana Facility, of the specific restricted hazardous wastes identified in this exemption issuance, into Class I hazardous waste injection Well WDW-6 until December 31, 2040, unless EPA terminates this exemption under provisions of 40 CFR 148.24. Additional conditions included in this final decision may be reviewed by contacting the Region 6 Ground Water/UIC Section. As required by 40 CFR 148.22(b) and 124.10, a public notice comment period started on April 6, 2023, and closed on May 22, 2023. No comments were received. EPA made significant edits to the fact sheet after the public comment period including naming the petition an issuance instead of a reissuance and clarifying portions of the geology section. A second comment period was started on September 7th, 2023, and closed on October 23rd, 2023. No comments were received. This decision constitutes final Agency action, and there is no Administrative appeal.

Dated: November 14, 2023.
Dzung Kim Ngo Kidd,
Acting Director, Water Division, Region 6.

[FR Doc. 2023-25605 Filed 11-17-23; 8:45 am]

BILLING CODE 6560-50-P